DEPARTMENT OF COMMERCE

International Trade Administration

[Application No. 97-12A003]

Export Trade Certificate of Review

ACTION: Notice of Issuance (97-12A003) of an amended Export Trade Certificate of Review to the Association for the Administration of Rice Quotas, Inc.

SUMMARY: The U.S. Department of Commerce issued an amended Export Trade Certificate of Review to Association for the Administration of Rice Quotas, Inc. “AARQ”.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. 4001-21) (“the Act”) authorizes the Secretary of Commerce to issue Export Trade Certificates of Review. The regulations implementing Title III are found at 15 CFR part 325 (2013). The Office of Trade and Economic Analysis (“OTEA”) is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certificate: AARQ's Export Trade Certificate of Review has been amended to:

1. Remove the following member companies from AARQ Certificate: Newfield Rice, Inc., Miramar, Florida and The Connell Company for the activities of itself and its two divisions, Connell Rice & Sugar Co. and Connell International Company, Berkeley Heights, New Jersey.

2. Change the names of the following AARQ members: Commodity Specialists Company, Minneapolis, Minnesota to Sinamco Trading Inc., Minneapolis, Minnesota and Nidera US LLC, Wilton, Connecticut (a subsidiary of Nidera Handelscompagnie BV (Netherlands) to Nidera US LLC, Wilton, Connecticut (a subsidiary of Nidera BV (Netherlands)).

AARQ's Export Trade Certificate of Review complete amended membership is listed below:

ADM Latin, Inc., Decatur, Illinois, ADM Grain Company, Decatur, Illinois, and ADM Rice, Inc.,

Tarrytown, New York (subsidiaries of Archer Daniels Midland Company)

American Commodity Company, LLC, Williams, California

Associated Rice Marketing Cooperative (ARMCO), Richvale, California

Bunge Milling, St. Louis, Missouri (a subsidiary of Bunge North America, White Plains, New York) dba

PIRMI (Pacific International Rice Mills), Woodland, California

Cargill Americas, Inc., and its subsidiary CAI Trading LLC, Coral Gables, Florida

Family & Sons, Inc., Miami, Florida

Farmers' Rice Cooperative, Sacramento, California

Farmers Rice Milling Company, Inc., Lake Charles, Louisiana

Far West Rice, Inc., Durham, California

Gulf Pacific Rice Co., Inc., Houston, Texas; Gulf Rice Milling, Inc., Houston, Texas; and Harvest Rice, Inc., McGehee, Arkansas (each a subsidiary of Gulf Pacific, Inc., Houston, Texas)

Gulf Pacific Disc, Inc., Houston, Texas

Itochu International Inc., Portland, Oregon (a subsidiary of Itochu Corporation (Japan))

JFC International Inc., Los Angeles, California (a subsidiary of Kikkoman Corp.)

JIT Products, Inc., Davis, California

Kennedy Rice Dryers, L.L.C., Mer Rouge, Louisiana

Kitoku America, Inc., Burlingame, California (a subsidiary of Kitoku Shinryo Co., Ltd. (Japan))

LD Commodities Rice Merchandising LLC, Wilton, Connecticut, and LD Commodities Interior Rice Merchandising LLC, Kansas City, Missouri (subsidiaries of Louis Dreyfus Commodities LLC, Wilton, Connecticut)

Louisiana Rice Mill, LLC, Mermentau, Louisiana

Nidera, US LLC, Wilton, Connecticut (a subsidiary of Nidera BV (Netherlands))

Nishimoto Trading Co., Ltd., Santa Fe Springs, California (a subsidiary of Nishimoto Trading Company, Ltd. (Japan))

Noble Logistic USA Inc., Portland, Oregon

Producers Rice Mill, Inc., Stuttgart, Arkansas

PS International, LLC dba PS International Ltd., Chapel Hill, North Carolina (jointly owned by Seaboard Corporation, Kansas City, Missouri and PS Trading Inc., Chapel Hill, North Carolina)

Riceland Foods, Inc., Stuttgart, Arkansas

Rickmers Rice USA, Inc., Knoxville, Tennessee

Riviana Foods Inc., Houston, Texas (a subsidiary of Ebro Foods, S.A. (Spain)) for the activities of itself and its subsidiary, American Rice, Inc., Houston, Texas

Sinamco Trading, Inc., Minneapolis, Minnesota

SunFoods LLC, Woodland, California

SunWest Foods, Inc., Davis, California

Texana Rice, Inc., Louise, Texas

The Sun Valley Rice Co., LLC, Arbuckle, California

TRC Trading Corporation, Roseville, California (a subsidiary of TRC Group Inc., Roseville California) and its subsidiary Gulf Rice Arkansas II, LLC, Houston, Texas

Trujillo & Sons, Inc., Miami, Florida

Veetee Rice, Inc., Great Neck, New York (a subsidiary of Veetee Investments Corporation (Bahamas))

Wehah Farm, Inc., dba Lundberg Family Farms, Richvale, California.

The amended Certificate of Review is effective from January 7, 2014, the date on which the application for an amendment was deemed submitted.

Dated: April 17, 2014.
Emily Kilcrease,
Acting Director, Office of Trade and Economic Analysis, International Trade Administration.

[FR Doc. 2014-09230 Filed 4-22-14; 8:45 am]

BILLING CODE 3510-DR-P